DEPARTMENT OF COMMERCE

Bureau of the Census

[Docket Number 000209033-0036-00]

RIN Number 0607-XX56

Pollution Abatement Costs and Expenditures Survey

AGENCY: Bureau of the Census, Commerce.

ACTION: Notice of determination.

SUMMARY: Notice is hereby given that the Bureau of the Census (U.S. Census Bureau) will conduct the Pollution Abatement Costs and Expenditures survey for the year 1999. The U.S. Census Bureau, prior to 1995, conducted the Pollution Abatement Costs and Expenditures survey, MA-200. Due to budget limitations, the survey was suspended. In response to the need for this data to assess the cost of environmental regulations on private business, the U.S. Census Bureau, with support from the Environmental Protection Agency, is reinstating the Pollution Abatement Costs and Expenditures survey.

FOR FURTHER INFORMATION CONTACT: Ron Taylor, Manufacturing and Construction Division, U.S. Census Bureau, Room 2135, Federal Building 4, Washington, DC 20233, on (301) 457-4683.

SUPPLEMENTARY INFORMATION: The U.S. Census Bureau is authorized to conduct surveys necessary to furnish current data on subjects covered by the major censuses authorized by Title 13, United States Code, Sections 182, 224, and 225. The Pollution Abatement Costs and Expenditures survey will provide continuing and timely national statistical data for the period between the economic censuses. The next economic census will occur in the year 2002. Data collected in this survey will be within the general scope, type, and character of those inquiries covered in the economic census.

The survey form will collect—from plants that produce goods or provide services classified in manufacturing, mining, and electric utility industries—data on the operating costs of pollution prevention and treatment, including hazardous pollutants, payments to government agencies for pollution removal, and new capital expenditures for pollution prevention and treatment (such as for air pollution control, water pollution control, and solid waste). These data are similar to the data collected on the previously mentioned MA-200. The survey results will be used to track costs of regulatory programs and rules. Results also will be used for monitoring economic impact and promoting growth of environmental programs.

The U.S. Census Bureau will use mail-out/mail-back survey forms to collect the data. Companies will be asked to respond to the survey within 60 days of the initial mailing. Letters encouraging participation will be mailed to companies that have not responded by the designated time. Resulting statistics will be published in the Current Industrial Reports series.

The primary users of these data will be federal, state, and local government agencies, including the U.S. Census Bureau, the Environmental Protection Agency, and the Bureau of Economic Analysis. Other users include business firms, academics, trade associations, and research and consulting organizations. These data are not publicly available from nongovernmental or other governmental sources on a timely and continuing basis.

Notwithstanding any other provision of law, no person is required to respond to, nor shall a person be subject to a penalty for failure to comply with, a collection of information subject to the requirements of the Paperwork Reduction Act (PRA) unless that collection of information displays a current valid Office of Management and Budget (OMB) control number. In accordance with the PRA, 44 United States Code, Chapter 35, we have submitted the survey to OMB. We will furnish report forms to organizations included in the survey, and additional copies are available on written request to the Director, U.S. Census Bureau, Washington, DC 20233-0101.

Based upon the foregoing, I have directed that an annual survey be conducted for the purpose of collecting these data.

Dated: February 11, 2000.
Kenneth Prewitt,
Director, Bureau of the Census.

[FR Doc. 00-4099 Filed 2-18-00; 8:45 am]

BILLING CODE 3510-07-P